DEPARTMENT OF AGRICULTURE

Natural Resources Conservation Service

Forest Service

[Docket No. NRCS-2022-0011]

Revised Notice of Intent To Prepare an Environmental Impact Statement for the Oregon State Office and Mt. Hood National Forest; Hood River County, Oregon; Clear Branch Dam Remedial Project

AGENCY: Natural Resources Conservation Service and Forest Service, U.S. Department of Agriculture (USDA).

ACTION: Revised Notice of Intent (NOI) to prepare an Environmental Impact Statement (EIS).

SUMMARY: The USDA Natural Resources Conservation Service (NRCS) and Forest Service previously published an NOI (referred to in this notice as the original NOI) to announce the intention to prepare an EIS for the Clear Branch Dam Remedial Project (Remedial Project) on September 19, 2022. NRCS and the Forest Service are jointly publishing this revised NOI to update the project timeline, preliminary description of the proposed action and alternatives, and expected impacts; and identify the substantive provisions for potential forest plan amendments to the 1990 Mt. Hood National Forest Land and Resource Management Plan (Forest Plan), as amended by the 1994 Record of Decision for Amendments to Forest Service and Bureau of Land Management Planning Documents within the Range of the Northern Spotted Owl (Northwest Forest Plan). This revised NOI also provides an additional 30-day scoping period and gives notice of a supplementary scoping meeting. In addition, the project name has been changed from the Clear Branch Dam Rehabilitation Project to the Clear Branch Dam Remedial Project (Remedial Project) to better align with policy (National Watershed Program Manual 505.20). The NRCS Oregon State Office and the Forest Service, announce their intent to prepare an EIS for the Remedial Project, located within the Hood River watershed in Parkdale, Oregon. The project area includes Clear Branch Dam, Laurance Lake which is formed by the dam, and associated infrastructure all located on the Mt. Hood National Forest. The Middle Fork Irrigation District (MFID)'s purpose is to provide clear and dependable irrigation water to its patrons. Recent developments have shown that Clear Branch Dam does not meet the Federal Energy Regulatory Commission's (FERC) safety standards and thus, in addition to remediation, this EIS will examine alternative solutions to meeting this FERC requirement while also meeting MFID's purpose which is to supply clean and dependable water. The project area in the Clear Branch watershed is primarily on National Forest System lands and includes Endangered Species Act (ESA) bull trout and Critical Habitat, significant recreation, and natural area amenities. NRCS is requesting comments to identify significant issues, potential alternatives, information, and analyses relevant to the proposed action from all interested individuals, Federal and State agencies, and Tribes.

DATES: We will consider comments that we receive 30 days after publication of this notice in the Federal Register. We will consider comments received after close of the comment period to the extent possible.

ADDRESSES: We invite you to submit comments in response to this notice. You may submit your comments through one of the methods below:

• Federal eRulemaking Portal: Go to http://www.regulations.gov and search for Docket ID NRCS-2022-0011. Follow the instructions for submitting comments;

• Mail or Hand Delivery: Ed Salminen, Project Manager, Watershed Professionals Network (WPN), P.O. Box 8, Parkdale, OR 97041. In your comments, specify the docket ID NRCS-2022-0011; or

• Project Website: clearbranchdam.com/contact.

All comments received will be posted without change and made publicly available on www.regulations.gov.

FOR FURTHER INFORMATION CONTACT: Gary Diridoni; telephone: (503) 414-3092; email: Gary.Diridoni@usda.gov. In addition, for questions related to submitting comments via WPN: Ed Salminen; telephone: (541) 490-6644; email: info@clearbranchdam.com; or the project website at: clearbranchdam.com.

Individuals who require alternative means for communication should contact the USDA Target Center at (202) 720-2600 (voice and text telephone (TTY)) or dial 711 for Telecommunications Relay service (both voice and text telephone users can initiate this call from any telephone).

SUPPLEMENTARY INFORMATION:

Purpose and Need

The NRCS Oregon State Office and the Forest Service announce their intent to prepare an EIS for the Remedial Project, located within the Hood River watershed in Parkdale, Oregon. The project area predominantly surrounds Clear Branch Dam, including the water retained by the dam, which the MFID holds in trust and distributes to their patrons. The MFID's purpose is to provide clear and dependable irrigation water to its patrons. Recent developments have shown that Clear Branch Dam does not meet the FERC safety standards and thus this EIS will examine alternative solutions to meeting this FERC requirement while also meeting MFID's purpose which is to supply clean and dependable water. The project area in the Clear Branch watershed is primarily on National Forest System lands and includes ESA bull trout, significant recreation, and natural area amenities. The NRCS is requesting comments to identify significant issues, potential alternatives, information, and analyses relevant to the proposed action from all interested individuals, Federal and State agencies, and Tribes.

The draft EIS is expected in winter of 2025/2026, and the final EIS is expected in fall 2026.

In 1962, a Watershed Work Plan for Middle Fork Hood River Watershed in Hood River County, Oregon was authorized by the Soil Conservation Service, the predecessor to NRCS, under Public Law 83-566, the Watershed Protection and Flood Prevention Act of 1954 (16 U.S.C. 1001-1009), as amended, and Public Law 78-534, the Flood Control Act of 1944 (33 U.S.C. 702b-1) under the general purpose of agricultural water management. The specific local purpose of the 1962 Work Plan was to provide a clean and dependable water supply and improved water distribution system for the irrigation of 8,000 acres; this objective was accomplished with the construction of Clear Branch Dam on Clear Branch of the Middle Fork Hood River in 1968. The dam is owned and operated by the MFID, who is the project sponsor. Today, the reservoir behind Clear Branch Dam provides water to 404 users to irrigate 6,362 acres in the Upper Hood River valley.

In 2015, an assessment of Clear Branch Dam was performed by NRCS and MFID to evaluate the condition of the dam. Results of the assessment indicated that modifications to Clear Branch Dam were needed to extend its service life another 50-100 years. To meet the original purpose of providing a clean and dependable water supply, there is a need to modify Clear Branch Dam to meet current dam safety and environmental compliance standards for NRCS, the Forest Service, the FERC, and other regulatory agencies.

In 2016, NRCS, the Forest Service, and MFID initiated scoping for an environmental assessment for the rehabilitation of Clear Branch Dam. A public scoping meeting was conducted on August 15, 2016, in Parkdale, Oregon.

Since scoping for the environmental assessment was completed in 2016, NRCS, the Forest Service, and MFID have completed additional investigations and studies to evaluate the condition of the dam. As a result of the new information obtained during the environmental assessment process, the modifications needed are more extensive than anticipated during scoping in 2016.

Estimated federal funds required for the construction of the proposed action that would become a component of the proposed action will exceed $25 million. Consistent with section 2 of the Watershed Protection and Flood Prevention Act of 1954, (Pub. L. 83-566 and 16 U.S.C. 1001-1008), given that the federal construction cost are estimated to be greater than $25 million, the Agriculture, Nutrition and Forestry Committee of the Senate and the Committee on Agriculture of the House of Representatives will be notified that the Chief of NRCS plans to authorize this project for implementation.

Preliminary Proposed Action and Alternatives, Including No Action

The 1962 Middle Fork Hood River Watershed Work Plan is being updated to incorporate revisions associated with the Remedial Project. A corresponding EIS is being prepared to analyze alternative ways to meet the purpose and need of the Remedial Project, which generally is to remediate and upgrade the dam and its related infrastructure to satisfy current dam safety and environmental compliance standards and to enable the dam to continue to meet its original purpose and need as delineated in the 1962 plan. As described below, multiple alternatives will be considered in detail to evaluate and compare their environmental effects and assess the extent to which they would meet the Remedial Project's purpose and need. A no action alternative under two scenarios will also be considered in detail, as described below.

• Alternative 1—No Action Scenario 1. Taking no action would consist of activities conducted if no federal action or funding were provided. If the No Action Alternative is selected neither NRCS nor the Forest Service would take any action towards remediating Clear Branch Dam and the dam would remain in place and continue operating under current conditions, subject to the interim risk reduction measures required by FERC.

• Alternative 2—No Action Scenario 2. NRCS would not fund the necessary dam remediation, and the Forest Service would not take action to approve MFID's pending special use permit application. As such, a condition of the existing special use permit would require removal of all infrastructure owned by MFID from National Forest System lands, including the dam, diversions, and pipes. The site would be restored to a natural condition.

• Alternative 3—Proposed Action—Remediate Structure. The proposed action would include structurally remediating the dam to address excessive seepage and meet current dam safety and environmental compliance standards of NRCS, Forest Service, FERC, and other regulatory agencies. The proposed action includes measures to address flood conveyance, seismic hazards, fish passage, and water quality improvements. Specifically, the proposed action includes two proposed agency actions: (1) NRCS's proposed funding to remediate the structure (extending the life of the dam approximately 75 years) and (2) the Forest Service's proposed issuance of a special use permit to authorize the remediation of the structure and the ongoing operation of the dam and related infrastructure for 30 more years. This alternative also includes several connected or related actions, such as re-routing portions of the Laurance Lake Road (National Forest System Road 2840) on National Forest System lands, road maintenance, temporary road construction, extracting rock material to reconstruct the dam, and developing staging areas. Under Alternative 3, rock material extraction of up to approximately 500,000 cubic yards and processing will be analyzed under two distinct scenarios. In the first scenario, rock material would be extracted from Eliot debris field and processed on site, which occurs on National Forest System lands. In the second scenario, rock material would be extracted and processed off—National Forest Systems lands and transported to the project area. Alternative 3 may include amendments to the Forest Plan and Northwest Forest Plan. See the “Substantive Provisions” section below.

• Alternative 4—New Storage Site. This alternative would replace the storage provided by Laurance Lake (formed by Clear Branch Dam) with a new storage reservoir on Dog River, decommission Clear Branch Dam, restore the dam site and former reservoir pool to pre-dam conditions, and construct a new run-of-river diversion on Clear Branch and conduit to tie the new storage reservoir into MFID's conveyance system, transfer existing storage water rights for Laurance Lake to the new storage reservoir (subject to approval by the Oregon Water Resources Department) and convey water via a combination of new pipe and existing pipe from the new run-of-river diversion on Clear Branch near the existing Clear Branch Dam. The new reservoir would be located on National Forest System lands and Hood River County lands. The new Clear Branch diversion would convey water to the new storage site year-round and would fully replace the existing storage. The new storage reservoir would be used as usual for irrigation, hydropower, and all other MFID uses. The existing live flow water right at Clear Branch would continue to be fully utilized under existing water rights. No new storage or live flow water rights would be obtained. This alternative includes two proposed agency actions: (1) NRCS's proposed funding to build the new dam and all associated construction activities and (2) the Forest Service's proposed issuance of a special use permit to authorize the new project and ongoing operation of the new dam for 30 years. This alternative also includes connected or related actions, such as transportation improvements, temporary and permanent road construction, extracting rock material to construct the dam, developing staging areas, and recreational development. This alternative may include amendments to the Forest Plan and Northwest Forest Plan.

Summary of Expected Impacts

As mentioned above, the estimated Federal contribution to construction cost may exceed $25 million.

The EIS will be prepared as required by section 102(2)(C) of the National Environmental Policy Act of 1969 (NEPA).

Resource concerns for scoping were identified and categorized as relevant or not relevant to the proposed action. MFID, NRCS, and the Forest Service evaluated the existing irrigation infrastructure, bull trout life history modeling, water temperature requirements, current recreation, baseline conditions of locations for removal of material needed for remediation and road realignment, along with relevant resource concerns for each proposed solution. Environmental resources in the project area consist of the natural and human-made environment. Some of the major resource concerns to be identified and addressed in the Watershed Plan-EIS include: endangered species, water quality, water quantity, and recreation. Aquatic species listed under the ESA may be affected by the alternatives for the Remedial Project. The Middle Fork Hood River sub-basin supports bull trout (Salvelinus confluentus), and the Middle and East Forks of the Hood River support spring Chinook salmon (Oncorhynchus tshawytscha) and winter steelhead trout (Oncorhynchus mykiss), which are all listed as threatened under the ESA. The reservoir behind Clear Branch Dam is designated as critical habitat for bull trout and the locations below the reservoir in Coe Creek and Eliot Branch are designated as critical habitat for bull trout, spring Chinook salmon, and winter steelhead trout. The Middle and East Forks of the Hood River also support cutthroat trout (Oncorhynchus clarkii), which is listed as a Forest Service sensitive species. Critical habitat for the northern spotted owl (Strix occidentalis caurina), which is listed as threatened under the ESA, is mapped near the confluences of Clear Branch, Pinnacle Creek, Coe Branch, Eliot Branch, and Dog River. Critical habitat for the northern spotted owl may be affected by the alternatives from the Remedial Project. For safety purposes, the area would likely be closed to the public for several years during project implementation; therefore, recreation use may be affected.

Lead and Cooperating Agencies

NRCS is the lead federal agency, and the Forest Service is a cooperating action agency.

Responsible Official

The responsible federal official for the NRCS is the Oregon State Conservationist. The responsible federal official for the Forest Service is the Mt. Hood National Forest Supervisor.

Anticipated Permits and Authorizations

The following permits and other authorizations are anticipated to be required:

• Clean Water Act Permits. Implementation of this project may require a permit under sections 401, 402 and 404 of the Clean Water Act.

• Hood River County Permits. A permit may be needed and authorization regarding land use compatibility.

• Oregon Department of State Lands Permits. Implementation of this project may require permits associated with working in waters of the State.

• Oregon Department of Geology and Mineral Industries Permit. A permit may be required for areas lacking an existing permit.

• Consultation. Consultation will be completed with the Oregon State Historic Preservation Office, National Marine Fisheries Service, and U.S. Fish and Wildlife Service.

Schedule of Decision-Making Process

NRCS, in cooperation with the Forest Service, will explain in its Record of Decision (ROD) its decision whether to adopt one of the alternatives evaluated in the EIS. Because the Remedial Project is located on National Forest System lands, the Forest Service's ROD will include whether to authorize construction of the project and whether to issue a new special use permit for continuing to operate Clear Branch Dam. The Forest Service's ROD will address consistency of its decision with the Forest Plan, as amended by the Northwest Forest Plan.

Public Scoping Comments and the Objection Process

This notice of intent initiates a supplemental scoping process, which will further guide the development of the EIS. In this process NRCS and the Forest Service are requesting comments on potential alternatives and impacts, and identification of any relevant information, studies or analyses of any kind concerning impacts affecting the quality of the human environment. A supplementary public scoping meeting will be held to share the updated version of alternatives to be considered in detail in the EIS:

• Date: Wednesday, July 9, 2025

• Time: 4 p.m. to 6 p.m. (Pacific Time)

• Location: Mt. Hood Town Hall, 6575 Highway 35, Mount Hood Parkdale, OR 97041

• Register at: clearbranchdam.com.

Materials for the public scoping meeting will be available on the project website at: clearbranchdam.com.

It is important that reviewers provide their comments at such times and in such manner that they are useful to the agencies' preparation of the EIS; therefore, comments should be provided prior to the close of the comment period and should clearly articulate the reviewer's concerns and contentions.

NRCS Waiting Period

NRCS expects to issue its final ROD in conjunction with the Forest Service's ROD. The minimum required timeframes for these RODs differ. NRCS must wait at least 30 days after the release of the final EIS before publishing the ROD, whereas the Forest Service has a 45-day objection-filing period, followed by an internal review of objections received after release of the final EIS before the ROD can be published. Internal coordination will occur to accommodate these different timeframes so each agency can follow their policies and release their RODs at the same time.

Forest Service Objection Process

Commenting during scoping and any other designated opportunity to comment provided by the responsible officials as prescribed by applicable regulations will also govern eligibility to object once the final EIS and the Forest Service's draft ROD have been published. Comments received in response to this solicitation, including names and addresses of those who comment, will be part of the public record for this proposed action. Comments submitted anonymously will be accepted and considered; however, they will not be used to establish eligibility for the objection process.

Objections will be accepted only from those who have previously submitted specific written comments regarding the proposed project during scoping or other designated opportunity for public comment in accordance with 36 CFR 218.5(a). Issues raised in objections must be based on previously submitted timely, specific written comments regarding the proposed project unless based on new information arising after designated opportunities.

Previously submitted comments within the 2016 and 2022 scoping periods will be considered and should not be resubmitted. Previous commenters will have eligibility to object under 36 CFR 218.5.

Substantive Provisions

Guidance for management of the project area comes from the Forest Plan, as amended by the Northwest Forest Plan. All actions authorized by the Forest Service on the Mt. Hood National Forest must be consistent with the Forest Plan and Northwest Forest Plan. If a proposed project-specific action is not consistent with or does not conform to the plan, the Forest Supervisor may modify the proposed action to make it consistent with the plan, reject the proposed action, or amend the plan such that the action will be consistent with the plan, as amended.

Implementation of the action alternatives may require amendments to the Forest Plan and Northwest Forest Plan. Implementation of Alternative 3 with rock material extraction and processing occurring on National Forest System lands would likely require the most amendments to the Forest Plan and Northwest Forest Plan. When proposing an amendment, the planning regulations require the responsible official to identify in this notice which specific substantive requirements (36 CFR 219.8 through 219.11) are directly related to the plan direction being modified by the amendment based on the purpose of the amendment or the effects of the amendment (36 CFR 219.13(b)(5)). The substantive requirements that are likely directly related to the purpose of the Forest Plan amendments are 36 CFR 219.10(a)(2) and (3). The primary purpose of the amendments is to facilitate rock material extraction from Eliot Branch, which is considered a riparian area under the Forest Plan, designated a riparian reserve under the Northwest Forest Plan, and designated critical habitat for bull trout under the ESA. A secondary purpose of the amendments is to facilitate re-routing Laurance Lake Road (National Forest System Road 2840). Although the proposed action would move most of the existing Laurance Lake Road outside of the riparian reserve, a small portion would remain within the riparian reserve.

Amendments to Forest Plan soil productivity standards may be needed to allow project implementation to occur. The substantive requirement that is likely directly related to the effects of these Forest Plan amendments is 36 CFR 219.8(a)(2)(ii).

Amendments to Forest Plan water standards may be needed to allow project implementation to occur. The substantive requirements that are likely directly related to the effects of these Forest Plan amendments are 36 CFR 219.8(a)(2)(iii), 36 CFR 219.8(a)(3)(i)(A), 219.8(a)(3)(i)(B), and 219.8(a)(3)(i)(C).

Amendments to Forest Plan riparian area and fisheries-related standards may be needed to allow project implementation to occur. The substantive requirements that are likely directly related to the effects of these Forest Plan amendments are 36 CFR 219.8(a)(3)(i)(A), 219.8(a)(3)(i)(B), 219.8(a)(3)(i)(C), 219.8(a)(3)(i)(D), 219.8(a)(3)(i)(E), 219.9(a), and 219.9(b).

An amendment to a Scenic Viewshed management area standard from the Forest Plan may be needed to allow project implementation to occur. The substantive requirements that are likely directly related to the effects of this Forest Plan amendment are 36 CFR 219.8(b)(2) and 219.10(a)(1).

New road construction and rock material extraction, processing, and hauling within a designated riparian reserve may not meet all the Aquatic Conservation Strategy Objectives under the Northwest Forest Plan. Therefore, amendments may be necessary. The substantive requirements that are likely directly related to the effects of these Forest Plan amendments are 36 CFR 219.8(a)(2)(iii), 219.8(a)(3), 219.9(a) and 219.9(b).

Authorities

This document is published as specified by the NEPA regulations regarding publication of an NOI to issue an EIS. Watershed planning is authorized under the Watershed Protection and Flood Prevention Act of 1954, as amended, and the Flood Control Act of 1944.

Federal Assistance Programs

The title and number of the Federal Assistance Programs as found in the Assistance Listing ¹ to which this document applies are 10.904, Watershed Protection and Flood Prevention, and 10.916, Watershed Rehabilitation.

¹ See https://sam.gov/content/assistance-listings.

Executive Order 12372

Executive Order 12372, “Intergovernmental Review of Federal Programs,” requires consultation with State and local officials that would be directly affected by proposed Federal financial assistance. The objectives of the Executive order are to foster an intergovernmental partnership and a strengthened federalism, by relying on State and local processes for State and local government coordination and review of proposed Federal financial assistance and direct Federal development. This project is subject to the provisions of Executive Order 12372, which requires intergovernmental consultation with State and local officials.

USDA Non-Discrimination Policy

In accordance with Federal civil rights law and USDA civil rights regulations and policies, USDA, its agencies, offices, and employees, and institutions participating in or administering USDA programs are prohibited from discriminating based on race, color, national origin, religion, sex, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and telephone) or dial 711 for Telecommunications Relay Service (both voice and text telephone users can initiate this call from any phone). Additionally, program information may be made available in languages other than English.

To file a program discrimination complaint, complete the USDA Program Discrimination Complaint Form, AD-3027, found online at https://www.usda.gov/oascr/how-to-file-aprogram-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax (202) 690-7442 or (3) email: program.intake@usda.gov.

USDA is an equal opportunity provider, employer, and lender.

Greggory Becker,
Oregon State Conservationist, Natural Resources Conservation Service.
James Abbas,
Acting Mt. Hood National Forest Supervisor, USDA Forest Service.

[FR Doc. 2025-11210 Filed 6-17-25; 8:45 am]

BILLING CODE 3410-16-P